DEPARTMENT OF ENERGY

Federal Energy Regulatory Commission

Combined Notice of Filings #1

Take notice that the Commission received the following electric rate filings:

Docket Numbers: ER10-2212-001; ER10-2201-001; ER13-2043-002; ER13-2044-002; ER13-291-001; ER12-1997-002; ER12-1998-002; ER13-1931-002.

Applicants: South Jersey Energy Company, Marina Energy, LLC, South Jersey Energy ISO1, LLC, South Jersey Energy ISO2, LLC, South Jersey Energy ISO3, LLC, South Jersey Energy ISO4, LLC, South Jersey Energy ISO5, LLC, EnergyMark, LLC.

Description: Notice of Change in Status of the South Jersey MBR sellers.

Filed Date: 9/30/13.

Accession Number: 20130930-5150.

Comments Due: 5 p.m. ET 10/21/13.

Docket Numbers: ER13-2477-001; ER10-1946-004; ER11-3859-006; ER11-3863-005; ER13-2476-001; ER11-3861-005; ER11-3864-006; ER13-2475-001; ER11-3866-006; ER12-192-004; ER11-3867-006; ER11-3857-006; ER12-1725-002.

Applicants: Brayton Point Energy, LLC, Broad River Energy LLC, Dighton Power, LLC, ECP Energy I, LLC, ELWOOD ENERGY LLC, Empire Generating Co, LLC, EquiPower Resources Management, LLC, Kincaid Generation, L.L.C., Lake Road Generating Company, L.P., Liberty Electric Power, LLC, MASSPOWER, Milford Power Company, LLC, Red Oak Power, LLC.

Description: Notice of Change in Status of the ECP MBR Sellers.

Filed Date: 9/30/13.

Accession Number: 20130930-5275.

Comments Due: 5 p.m. ET 10/21/13.

Docket Numbers: ER13-2484-000.

Applicants: California Independent System Operator Corporation.

Description: 2013-09-30 InterconnectionEnhancements to be effective 12/3/2012.

Filed Date: 9/30/13.

Accession Number: 20130930-5195.

Comments Due: 5 p.m. ET 10/21/13.

Docket Numbers: ER13-2485-000.

Applicants: Dominion Energy Marketing, Inc.

Description: Compliance Filing—Amended MBR Tariff of DEMI et al. to be effective 10/1/2013.

Filed Date: 9/30/13.

Accession Number: 20130930-5201.

Comments Due: 5 p.m. ET 10/21/13.

Docket Numbers: ER13-2486-000.

Applicants: EWO Marketing, LLC.

Description: SRPSA Filing to be effective 9/1/2013.

Filed Date: 9/30/13.

Accession Number: 20130930-5206.

Comments Due: 5 p.m. ET 10/21/13.

Docket Numbers: ER13-2487-000.

Applicants: California Independent System Operator Corporation.

Description: California Independent System Operator Corporation submits 2013-09-30 2nd BPAIntraHour to be effective 10/1/2013.

Filed Date: 9/30/13.

Accession Number: 20130930-5212.

Comments Due: 5 p.m. ET 10/21/13.

Docket Numbers: ER13-2488-000.

Applicants: Midcontinent Independent System Operator, Inc.

Description: 09-30-2013 SA 6501 Cancel DTE Electric Company to be effective 10/1/2013.

Filed Date: 9/30/13.

Accession Number: 20130930-5228.

Comments Due: 5 p.m. ET 10/21/13.

Docket Numbers: ER13-2489-000.

Applicants: California Independent System Operator Corporation.

Description: 2013-09-30 MesquiteSolarLGIA to be effective 1/1/2014.

Filed Date: 9/30/13.

Accession Number: 20130930-5229.

Comments Due: 5 p.m. ET 10/21/13.

Docket Numbers: ER13-2490-000.

Applicants: Simon Solar, LLC.

Description: Application for Market-Based Rate Tariff, Blanket Approval and Waivers to be effective 10/1/2013.

Filed Date: 9/30/13.

Accession Number: 20130930-5230.

Comments Due: 5 p.m. ET 10/21/13.

Docket Numbers: ER13-2491-000.

Applicants: PJM Interconnection, L.L.C.

Description: Original Service Agreement No. 3647; Queue No. U2-030 to be effective 8/30/2013.

Filed Date: 9/30/13.

Accession Number: 20130930-5231.

Comments Due: 5 p.m. ET 10/21/13.

Docket Numbers: ER13-2492-000.

Applicants: Midcontinent Independent System Operator, Inc.

Description: 09-30-13 Schedule 43B Cancellation to be effective 10/1/2013.

Filed Date: 9/30/13.

Accession Number: 20130930-5247.

Comments Due: 5 p.m. ET 10/21/13.

Take notice that the Commission received the following electric securities filings:

Docket Numbers: ES13-58-000.

Applicants: PPL Electric Utilities Corporation.

Description: Application of PPL Electric Utilities Corporation In Respect of the Issuance of Promissory Notes and Other Evidences of Secured and Unsecured Indebtedness Maturing in Less Than One Year from the Date of Issuance.

Filed Date: 9/30/13.

Accession Number: 20130930-5266.

Comments Due: 5 p.m. ET 10/21/13.

Docket Numbers: ES13-59-000.

Applicants: El Paso Electric Company.

Description: Application of El Paso Electric Company under Section 204 of the Federal Power Act.

Filed Date: 9/30/13.

Accession Number: 20130930-5274.

Comments Due: 5 p.m. ET 10/21/13.

Take notice that the Commission received the following land acquisition reports:

Docket Numbers: LA13-3-000.

Applicants: Georgia-Pacific Brewton LLC, GP Big Island, LLC, Brunswick Cellulose, Inc., Georgia-Pacific Cedar Springs LLC, Georgia-Pacific Consumer Operations LLC, aka Palatka, Georgia-Pacific Consumer Operations LLC, aka Port Hudson, Georgia-Pacific Consumer Products LP, aka Green Bay West, Georgia-Pacific Consumer Products LP, aka Muskogee, Georgia-Pacific Consumer Products LP, aka Naheola, Georgia-Pacific Consumer Products LP, aka Savannah, Georgia-Pacific LLC, aka Crossett, Georgia-Pacific Monticello LLC, Georgia-Pacific Toledo LLC, Leaf River Cellulose, LLC.

Description: Quarterly Land Acquisition Report of the Georgia Pacific Entities.

Filed Date: 9/30/13.

Accession Number: 20130930-5265.

Comments Due: 5 p.m. ET 10/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2013.
Nathaniel J. Davis, Sr.,
Deputy Secretary.

[FR Doc. 2013-24419 Filed 10-9-13; 8:45 am]

BILLING CODE 6717-01-P